NUCLEAR REGULATORY COMMISSION

Sunshine Federal Register Notice

Agency Holding the Meetings: Nuclear Regulatory Commission.

Dates: Weeks of March 9, 16, 23, 30, April 6, 13, 2009.

Place: Commissioners' Conference Room, 11555 Rockville Pike, Rockville, Maryland.

Status: Public and closed.

Week of March 9, 2009—Tentative

There are no meetings scheduled for the week of March 9, 2009.

Week of March 16, 2009—Tentative

Monday, March 16, 2009

9:30 a.m.

Briefing on State of Nuclear Materials and Waste Programs (Public Meeting) (Contact: Tammy Bloomer, 301-415-1725).

This meeting will be webcast live at the Web address— http://www.nrc.gov.

Tuesday, March 17, 2009

1:30 p.m.

Briefing on State of Nuclear Reactor Safety Programs (Public Meeting) (Contact: Tammy Bloomer, 301-415-1725).

This meeting will be webcast live at the Web address— http://www.nrc.gov.

Friday, March 20, 2009

9:30 a.m.

Briefing on the Nuclear Education Program (Public Meeting) (Contact: John Gutteridge, 301-492-2313).

This meeting will be webcast live at the Web address— http://www.nrc.gov.

Week of March 23, 2009—Tentative

There are no meetings scheduled for the week of March 23, 2009.

Week of March 30, 2009—Tentative

There are no meetings scheduled for the week of March 30, 2009.

Week of April 6, 2009—Tentative

There are no meetings scheduled for the week of April 6, 2009.

Week of April 13, 2009—Tentative

Wednesday, April 15, 2009

9:30 a.m.

Briefing on NRC Corporate Support (Public Meeting) (Contact: Karen Olive, 301-415-2276).

This meeting will be webcast live at the Web address— http://www.nrc.gov.

Thursday, April 16, 2009

1:30 p.m.

Briefing on Human Capital and EEO (Public Meeting) (Contact: Kristin Davis, 301-492-2266).

This meeting will be webcast live at the Web address— http://www.nrc.gov.

* The schedule for Commission meetings is subject to change on short notice. To verify the status of meetings, call (recording)—(301) 415-1292. Contact person for more information: Rochelle Bavol, (301) 415-1651.

The NRC Commission Meeting Schedule can be found on the Internet at: http://www.nrc.gov/about-nrc/policy-making/schedule.html.

The NRC provides reasonable accommodation to individuals with disabilities where appropriate. If you need a reasonable accommodation to participate in these public meetings, or need this meeting notice or the transcript or other information from the public meetings in another format (e.g. braille, large print), please notify the NRC's Disability Program Coordinator, Rohn Brown, at 301-492-2279, TDD: 301-415-2100, or by e-mail at rohn.brown@nrc.gov. Determinations on requests for reasonable accommodation will be made on a case-by-case basis.

This notice is distributed by mail to several hundred subscribers; if you no longer wish to receive it, or would like to be added to the distribution, please contact the Office of the Secretary, Washington, DC 20555 (301-415-1969). In addition, distribution of this meeting notice over the Internet system is available. If you are interested in receiving this Commission meeting schedule electronically, please send an electronic message to darlene.wright@nrc.gov.

Dated: March 5, 2009.
Rochelle C. Bavol,
Office of the Secretary.

[FR Doc. E9-5224 Filed 3-6-09; 4:15 pm]

BILLING CODE 7590-01-P